DEPARTMENT OF THE INTERIOR

National Park Service

[NPS-WASO-NAGPRA-18955; PPWOCRADN0-PCU00RP14.R50000]

Notice of Inventory Completion: Dallas Water Utilities, Dallas, Texas

AGENCY: National Park Service, Interior.

ACTION: Notice.

SUMMARY: The Dallas Water Utilities has completed an inventory of human remains in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Dallas Water Utilities. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Dallas Water Utilities at the address in this notice by September 30, 2015.

ADDRESSES: Terry Hodgins, 405 Long Creek Road, Sunnyvale, TX 75182, telephone (214) 670-8658, email terry.hodgins@dallascityhall.com.

SUPPLEMENTARY INFORMATION: Notice is hereby given in accordance with the Native American Graves Protection and Repatriation Act (NAGPRA), 25 U.S.C. 3003, of the completion of an inventory of human remains under the control of the Dallas Water Utilities. The human remains were removed from Lake Ray Hubbard, Rockwall County, TX.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by AR Consultants, Inc. and Dallas Water Utilities professional staff in initial consultation with representatives of the Caddo Nation of Oklahoma and the Wichita and Affiliated Tribes (Wichita, Keechi, Waco & Tawakoni).

History and Description of the Remains

In November 2011 and in the fall of 2013, human remains representing, at minimum, six individuals were removed from site 41RW2 in Rockwall County, TX, near the Shores Golf Course. The human remains were found along the lakebed exposed by low reservoir water levels. The lake is property of the City of Dallas, but the area in which the remains were found is in Rockwall County. Human remains on the surface of the lakebed were collected and released to the Dallas County Medical Examiner's Office for identification. Once the remains were determined to be of no forensic significance, Dallas Water Utilities was notified of their presence. Dallas Water Utilities contacted Dr. Catrina Banks Whitley of AR Consultants, Inc. to conduct skeletal analysis and to assist in determining potential disposition options. No known individuals were identified. No associated funerary objects are present.

Site 41RW2, the Upper Rockwall Site, is a Wiley Focus Site dating from A.D. 1 to 1500. The site was excavated by the Dallas Archeological Society in 1963, and the subsequent report describes the site as being very extensive, 400 yards by 150 yards, and is in the west end of a terrace adjacent to the East Fork of the Trinity River. During those excavations, the Dallas Archeological Society encountered nine burials, shell pits, shell cooking pits, and numerous artifacts including pottery, lithic debris, points, beads, awls, bone needles, and bone pins. The burials included cremated and primary interments, some with funerary objects such as conch shell beads. The site was excavated again in 1966 by the Texas Archeological Salvage Project. Approximately nine trenches were placed across the site and excavation by hand occurred. Two primary interments were excavated that included a broken sherd, worked mussel shell, gar scales, and fish vertebrae in one grave and small shell beads and large conch shell beads, near the neck of the other burial. Additional non-funerary items included bifaces, knives, pottery, and beads among others.

Given the location and age of the site, a relationship of shared group identity can be reasonably traced between the human remains and the Caddo Nation of Oklahoma and the Wichita and Affiliated Tribes (Wichita, Keechi, Waco & Tawakoni).

Determinations Made by the Dallas Water Utilities

Officials of the Dallas Water Utilities and AR Consultants, Inc. have determined that:

• Pursuant to 25 U.S.C. 3001(9), the human remains described in this notice represent the physical remains of a minimum number of six individuals of Native American ancestry.

• Pursuant to 25 U.S.C. 3001(2), there is a relationship of shared group identity that can be reasonably traced between the Native American human remains and the Caddo Nation of Oklahoma and Wichita and Affiliated Tribes (Wichita, Keechi, Waco & Tawakoni).

Additional Requestors and Disposition

Lineal descendants or representatives of any Indian tribe or Native Hawaiian organization not identified in this notice that wish to request transfer of control of these human remains should submit a written request with information in support of the request to Terry Hodgins, 405 Long Creek Road, Sunnyvale, TX, 75182, telephone (214) 670-8658, email terry.hodgins@dallascityhall.com, by September 30, 2015. After that date, if no additional requestors have come forward, transfer of control of the human remains to the Caddo Nation of Oklahoma or the Wichita and Affiliated Tribes (Wichita, Keechi, Waco & Tawakoni) may proceed.

The Dallas Water Utilities is responsible for notifying the Caddo Nation of Oklahoma and Wichita and Affiliated Tribes (Wichita, Keechi, Waco & Tawakoni) that this notice has been published.

Dated: July 31, 2015.
Melanie O'Brien,
Manager, National NAGPRA Program.

[FR Doc. 2015-21490 Filed 8-28-15; 8:45 am]

BILLING CODE 4312-50P